DEPARTMENT OF DEFENSE

Department of the Navy

Meeting of the Naval Research Advisory Committee

AGENCY: Department of the Navy, DoD.

ACTION: Notice of closed meeting.

SUMMARY: The Naval Research Advisory Committee (NRAC) will meet to discuss classified information from government organizations. All sessions of the meeting will be devoted to briefings, discussions, and technical examination of issues related to maritime strategy and Department of the Navy plans, programs, and objectives. It is envisioned that these discussions will enable the NRAC to identify technology gaps where additional science and technology investment may be needed to satisfy current and projected Navy and Marine Corps requirements.

DATES: The meeting will be held on Wednesday, September 27, 2006, from 8 a.m. to 5 p.m.

ADDRESSES: The meeting will be held at the Pentagon, Room 2C554, Conference #6, Arlington, VA 22201.

FOR FURTHER INFORMATION CONTACT: Dr. Sujata Millick, Program Director, 875 North Randolph Street, Arlington, VA 22203-1995, 703-696-6769.

SUPPLEMENTARY INFORMATION: This notice is provided in accordance with the provisions of the Federal Advisory Committee Act (5 U.S.C. App. 2). All sessions of the meeting will be devoted to executive sessions that will include discussion and technical examination of information related to forthcoming NRAC studies. These briefings and discussions will contain classified information that is specifically authorized under criteria established by Executive Order to remain classified in the interest of national defense and are properly classified pursuant to such Executive Order. The classified and non-classified matters to be discussed are so inextricably intertwined as to preclude opening any session of the meeting. In accordance with 5 U.S.C. App. 2, section 10(d), the Secretary of the Navy has determined in writing that the public interest requires that all sessions of the meeting be closed to the public because they will be concerned with matters listed in 5 U.S.C. 552b(c)(1) and (4).

Dated: July 31, 2006.
M.A. Harvison,
Lieutenant Commander, Judge Advocate General's Corps, U.S. Navy, Federal Register Liaison Officer.

[FR Doc. E6-12597 Filed 8-3-06; 8:45 am]

BILLING CODE 3810-FF-P